ENVIRONMENTAL PROTECTION AGENCY

[FRL-9126-9]

NACEPT Subcommittee on Promoting Environmental Stewardship

AGENCY: Environmental Protection Agency (EPA).

ACTION: Notice of conference call.

SUMMARY: Under the Federal Advisory Committee Act, Public Law 92-463, EPA gives notice of a conference call of the NACEPT Subcommittee on Promoting Environmental Stewardship.

The purpose of the Subcommittee on Promoting Environmental Stewardship (SPES) of the National Advisory Council for Environmental Policy and Technology (NACEPT) is to advise the U.S. Environmental Protection Agency on how to promote environmental stewardship practices that encompass all environmental aspects of an organization in the regulated community and other sectors, as appropriate, in order to enhance human health and environmental protection. A copy of the conference call agenda will be posted at http://epa.gov/ncei/dialogue.htm. This Web site also includes the charge of the SPES, which provides further information about the purpose of the Subcommittee.

The conference call agenda will focus on the Subcommittee's potential recommendations to the Agency on how to promote environmental stewardship.

DATES: The NACEPT Subcommittee on Promoting Environmental Stewardship will hold a public teleconference on Thursday, April 1, 2010 (1 p.m.-3 p.m. Eastern Standard Time).

ADDRESSES: The teleconference will be held in the U.S. EPA West Building, 1301 Constitution Ave., NW., Room 1144C, Washington, DC 20004.

FOR FURTHER INFORMATION CONTACT: Regina Langton, Designated Federal Officer, langton.regina@epa.gov, (202) 566-2178, U.S. EPA Office of Policy, Economics, and Innovation (MC1807T), 1200 Pennsylvania Avenue, NW., Washington, DC 20460.

SUPPLEMENTARY INFORMATION: Requests to make oral comments or provide written comments to the NACEPT Subcommittee on Promoting Environmental Stewardship should be sent to Jennifer Peyser at (202) 965-6215 or JPeyser@resolv.org by March 18, 2010. Seating is limited and will be allocated on a first-come, first-served basis. Members of the public wishing to gain access to the conference room on the day of the meeting must contact Jennifer Peyser at (202) 965-6215 or JPeyser@resolv.org by March 18, 2010.

Meeting Access: For information on access or services for individuals with disabilities, please contact Jennifer Peyser at (202) 965-6215. To request accommodation of a disability, please contact Jennifer Peyser at least 10 days prior to the teleconference to give EPA as much time as possible to process your request.

Dated: March 9, 2010.
Regina Langton,
Designated Federal Officer.

[FR Doc. 2010-5597 Filed 3-12-10; 8:45 am]

BILLING CODE 6560-50-P